DEPARTMENT OF TRANSPORTATION

National Highway Traffic Safety Administration

[Docket No. NHTSA 2007-27111; Notice 2]

Baby Trend, Inc.; Grant of Petition for Decision of Inconsequential Noncompliance

Baby Trend Inc. (Baby Trend) has determined that certain infant car seats that it produced in 2006 do not comply with paragraph S5.6.1.7(i) of 49 CFR 571.213, Federal Motor Vehicle Safety Standard (FMVSS) No. 213, Child Restraint Systems. Pursuant to 49 U.S.C. 30118(d) and 30120(h), Baby Trend has petitioned for a determination that this noncompliance is inconsequential to motor vehicle safety and has filed an appropriate report pursuant to 49 CFR part 573, Defect and Noncompliance Responsibility and Reports. Notice of receipt of a petition was published, with a 30-day public comment period, on February 16, 2007, in the Federal Register (72 FR 7708). The National Highway Traffic Safety Administration (NHTSA) received no comments. To view the petition and all supporting documents, go to: http://dms.dot.gov/search/searchFormSimple.cfm and enter Docket No. NHTSA-2007-27111.

Affected are a total of approximately 30,450 infant car seats produced by Baby Trend between June 21, 2006 and November 30, 2006. Specifically, paragraph S5.6.1.7(i) of FMVSS No. 213 addresses the use of the following statement on child restraints:

For recall information, call the U.S. Government's Vehicle Safety Hotline at 1-888-327-4236 (TTY: 1-800-424-9153), or go to http://www.NHTSA.gov.

The infant car seats do not have the markings most recently required by paragraph S5.6.1.7. Baby Trend has corrected the problem that caused these errors so that they will not be repeated in future production.

Baby Trend argued that the noncompliance is inconsequential to motor vehicle safety and that no corrective action is warranted. Baby Trend stated that the child restraint seats comply with the stringent dynamic performance requirements of FMVSS No. 213. Baby Trend also asserted that no safety consequence exists for the technical labeling non-compliance. Further, they believe that given the existing lag time, the use of the older version of the information remains a viable means for contacting the NHTSA. Although telephone exchanges have changed, NHTSA still forwards calls in an integrated manner to provide consumer service to the general population. In addition, Baby Trend states that the use of the internet, improvements to NHTSA's Web sites and the implementation of the integrated http://www.recall.gov Web site allows consumers interested in contacting NHTSA to do so more effectively than ever before.

NHTSA Decision

NHTSA specifies that child seat manufacturers must provide the telephone number for the Vehicle Safety Hotline so that consumers concerned about safety recalls or potential safety related defects could contact the agency. That telephone number has been changed. A final rule published on June 21, 2005, in the Federal Register (70 FR 3556) revised the relevant section of the Code of Federal Regulations (CFR) to correct the telephone number. In that same final rule, NHTSA also added guidance related to the use of the URL of the NHTSA Web site on printed instructions for the proper use of infant car seats.

Although the Hotline number included in the printed instructions for the Baby Trend infant car seats is not the correct number for the Hotline, it is an active number which currently provides callers with a referral to the new Hotline number. This referral from the old number will be active for the foreseeable future. Inclusion of the NHTSA Web site address in the printed instructions for proper use is optional and its absence on the printed instructions for the subject infant child seats does not constitute a noncompliance of FMVSS No. 213. NHTSA therefore agrees with Baby Trend that there is no safety consequence because consumers will still have ready access to the new Hotline number by calling the old Hotline number provided by Baby Trend.

NHTSA agrees that the noncompliance is inconsequential to motor vehicle safety. The use of the outdated telephone number should not prevent the owners of the child seats from being able to readily access recall information.

In consideration of the foregoing, NHTSA has decided that Baby Trend has met its burden of persuasion that the noncompliance described is inconsequential to motor vehicle safety. Accordingly, Baby Trend's petition is granted and the petitioner is exempted from the obligation of providing notification of, and a remedy for, the noncompliance.

Authority: 49 U.S.C. 30118, 30120; delegations of authority at 49 CFR 1.50 and 501.8.

Issued on: May 1, 2007.
Daniel C. Smith,
Associate Administrator for Enforcement.

[FR Doc. E7-8680 Filed 5-4-07; 8:45 am]

BILLING CODE 4910-59-P